DEPARTMENT OF DEFENSE

Department of the Army, Corps of Engineers

Notice of Intent To Prepare a Draft Environmental Impact Statement/Environmental Impact Report for a Permit Application for the Proposed Berths 302-306 Container Terminal Improvements Project at the Port of Los Angeles, in Los Angeles County, CA

AGENCY: U.S. Army Corps of Engineers, Los Angeles District, DoD.

ACTION: Notice of Intent (NOI).

SUMMARY: The U.S. Army Corps of Engineers, Los Angeles District (Corps) in conjunction with the City of Los Angeles Harbor Department (LAHD) is examining the feasibility of waterside terminal and transportation improvements at Berths 302-306 in the Port of Los Angeles. The Corps is considering the LAHD's application for a Department of the Army permit under section 10 of the River and Harbor Act and potentially section 404 of the Clean Water Act to construct wharf/docking facilities, perform dredging, construct container loading apparatus (i.e., cranes), and other ancillary improvements within 100 feet land side of the waters' edge associated with the Berths 302-306 [American President Lines (APL)] Container Terminal Project (proposed project). Dredging up to 75,000 cubic yards (cy) may be required for the proposed project, and any proposed offshore disposal at the LA-2 disposal site would also trigger review under section 103 of the Marine Protection, Research, and Sanctuaries Act (MPRSA).

The proposed project would improve the existing terminal, extend the existing concrete wharf by 1,250 linear feet (lf) to add a new berth (Berth 306), add new cranes to the Berths 302-305 and Berth 306, and expand the existing container terminal by approximately 56 acres. The landside developments include expansion, redevelopment, and construction of marine terminal facilities.

The primary Federal concerns are the work (including dredging) and addition of permanent structures in navigable waters of the U.S., potential discharges of fill material into waters of the U.S., potential transport and disposal of dredged material at an ocean disposal site, and potential significant impacts to the environment resulting from such in-water and over-water activities. Therefore, in accordance with the National Environmental Policy Act (NEPA), the Corps is requiring the preparation of an Environmental Impact Statement (EIS) prior to consideration of any permit action. The Corps may ultimately make a determination to permit or deny the above project, or permit or deny modified versions of the above project.

Pursuant to the California Environmental Quality Act (CEQA), the LAHD will serve as Lead Agency in preparing an Environmental Impact Report (EIR) for its consideration of development approvals within its jurisdiction. The Corps and the LAHD have agreed to jointly prepare a Draft EIS/EIR to optimize efficiency and avoid duplication. The Draft EIS/EIR is intended to be sufficient in scope to address the Federal, State, and local requirements and environmental issues concerning the proposed activities and permit approvals.

FOR FURTHER INFORMATION CONTACT: Comments and questions regarding scoping of the Draft EIS/EIR may be addressed to: U.S. Army Corps of Engineers, Los Angeles District, Regulatory Division, Ventura Field Office, ATTN: CESPL-RG-N-2009-00226-SDM, 2151 Alessandro Drive, Suite 110, Ventura, California 93001, or spencer.d.macneil@usace.army.mil. Comments or questions can also be sent to Ms. Lena Maun-DeSantis, Port of Los Angeles, Environmental Management Division, 425 S. Palos Verdes St., San Pedro, CA 90731, or LMaun-DeSantis@portla.org. Dr. Spencer D. MacNeil can be reached at (805) 585-2152, and Ms. Lena Maun-DeSantis can be reached at (310) 732-3950. Comment letters sent via electronic mail should include the commenter's physical mailing address and the project title “Berths 302-306 [APL] Container Terminal Project” should be included in the electronic mail's subject line.

SUPPLEMENTARY INFORMATION:

1. Project Site and Background Information: The project site is located on Terminal Island, within an industrial area in the Fish Harbor region of the Port of Los Angeles. The site is within the Port of Los Angeles Community Plan area in the City of Los Angeles, which is adjacent to the communities of San Pedro and Wilmington, and approximately 20 miles south of downtown Los Angeles. The site is generally bounded on the north by Terminal Way; the Pier 300 Shallow Water Habitat on the east; Earle Street on the west; and the Pier 300 Channel on the south. Land uses in the project vicinity include the Terminal Island Treatment Plant and the vacant Los Angeles Export Terminal (LAXT) facility.

The basic purpose of the proposed project is improving marine shipping and maritime trade, which is a water-dependent activity. The overall goal and Clean Water Act project purpose is to optimize the container-handling efficiency and capacity of the Port at Berths 302-306, in order to accommodate projected increases in volume of containerized goods shipped through the Port.

To meet the overall project goal, the following objectives need to be accomplished:

• Optimize the use of existing land at Berths 302-306 and associated waterways in a manner that is consistent with the LAHD's public trust obligations;

• Improve the container terminal at Berths 302-306 to more efficiently work larger ships and to ensure the terminal's ability to accommodate increased numbers and sizes of container ships;

• Increase accommodations for container ship berthing, and provide sufficient backland area and associated improvements for optimized container terminal operations, at Berths 302-306;

• Incorporate modern backland design efficiencies into improvements to the existing vacant landfill area at Berths 305-306; and

• Improve the access into and out of the terminal, as well as internal terminal circulation, at Berths 302-306 to reduce the time for gate turns and to increase terminal efficiency.

2. Proposed Action: The LAHD as project applicant proposes to redevelop and expand an operating container terminal at Berths 302-306 on Terminal Island in the Port of Los Angeles. Eagle Marine Services (EMS) currently operates the existing approximately 260-acre APL container terminal at Berths 302-305 on Terminal Island under LAHD Permit No. 733. In addition, EMS operates an additional approximately 30 acres of backlands at the terminal under a month-to-month space assignment for a total of 290 overall acres. The proposed project would improve the existing terminal, extend the existing concrete wharf by 1,250 lf to add a new berth (Berth 306), add new cranes to the Berths 302-305 and Berth 306, and expand the existing container terminal by approximately 56 acres. As part of the proposed project, the current duration of Permit No. 733 would remain unchanged (1998 to 2027), but the permit would be amended to include the additional 56 acres.

At completion of project construction and delivery, EMS would operate approximately 316 acres under Permit No. 733, plus the 30 acres that it operates under the current space assignment for a total of 346 acres. The project includes improving and adding to the terminal approximately 41 acres of already constructed but unimproved fill behind Berths 305-306. In addition, the project includes redeveloping and adding to the terminal approximately 9 acres of existing land behind Berth 301 (EMS would operate the backlands behind Berth 301 but would not use the wharf at Berth 301 because it is not currently configured for container operations; the redevelopment and use of this upland area would occur independently of Berth 301), and 2 acres of existing land at the northeast corner of the main gate. Finally, the project includes adding approximately 4 acres of wharf deck to the terminal as a result of constructing the 1,250 lf of new wharf at Berth 306.

The proposed project consists of multiple components to expand the existing APL container terminal by approximately 56 acres and to modify various existing terminal elements. Proposed expansion-area components would:

• Improve approximately 41 acres of already constructed but unimproved fill as container terminal backland with electric rail mounted gantry (RMG) crane rows at Berths 305-306;

• Redevelop approximately 2 acres of the former LAXT conveyor right of way and approximately 7 acres of former LAXT backland behind Berth 301 into container terminal backland;

• Develop approximately 2 acres of existing land northeast of the current main gate for a new out-gate location;

• Construct approximately 1,250 lf (4 acres) of concrete wharf at Berth 306;

• Install up to 8 new cranes on the new wharf at Berth 306;

• Install Alternative Marine Power (AMP) along the new wharf at Berth 306; and

• Dredge Berth 306, with the dredge material (approximately 20,000 cubic yards) going to an approved upland disposal site.

Improvements to the existing terminal would:

• Relocate and modify the main gate;

• Modify the terminal entrance lanes;

• Modify the Earle Street gate;

• Install up to 4 additional, new cranes at Berths 302-305;

• Install AMP along the existing wharf at Berths 302-305;

• Expand the refrigerated container units (reefers) storage area;

• Demolish and re-construct the Roadability facility;

• Expand the Power Shop Building and construct second and third floors for Marine Office Facilities;

• Install utility infrastructure at various areas in the backlands (relocate light poles and install power at a new “Meet and Greet” booth at the backlands behind Berth 301, etc.); and

• Perform dredging at Berths 302-305, with the dredge material (approximately 55,000 cubic yards) going to an approved upland disposal site.

Under the amended Permit No. 733 and the existing space assignment, EMS would continue to operate the terminal as a container terminal. The redevelopment and expansion would provide EMS with additional backlands for container storage and terminal equipment, and would lengthen the existing wharf to accommodate newer, larger-class vessels, which together would allow increased ship calls and throughput. The wharf extension, new cranes, and dredging would require a permit from the Corps. The proposed project would also increase gate and on-dock rail moves. The proposed project would increase throughput from approximately 1.3 million Twenty-foot Equivalent Units (TEUs) in 2008 to approximately 3 million TEUs by 2027. By 2027, approximately 38 percent of the 3 million TEUs would travel to and from the terminal by on-dock rail, 7 percent would travel to and from the terminal via truck to near-dock rail yards, and the remaining cargo would travel by truck to the local market (i.e., markets within an approximately 100-mile radius from the Port of Los Angeles).

Although dredge material is expected to be disposed of at an approved upland site, there is the potential for disposal of some dredged material at an established ocean disposal site, which would require Corps authorization under section 103 of the MPRSA. A sampling and analysis program would be implemented to approve any offshore disposal of material.

Through the EIS/EIR process, feasible environmental mitigation measures will be developed to reduce potential environmental impacts. Measures to reduce operational impacts would be implemented through lease amendments and become permit requirements. Measures to reduce construction impacts would be implemented through construction contract specifications and requirements. Air Quality measures would be consistent with or exceed the San Pedro Bays Clean Air Action Plan (CAAP) and are likely to include AMP, low sulfur fuel, Vessel Speed Reduction Program (VSRP) requirements for new vessel builds, and terminal equipment standards.

3. Issues: There are several potential environmental issues that will be addressed in the Draft EIS/EIR. Additional issues may be identified during the scoping process. Issues initially identified as potentially significant include:

1. Aesthetic and visual impacts from construction and operation;

2. Air quality impacts from construction and operation of an expanded container terminal, including ship and vehicle emissions, and contributions to global warming and greenhouse gases;

3. Biological impacts to marine and terrestrial wildlife;

4. Geological issues, including dredging and stabilization of fill areas in an area of known seismic activity;

5. Hazards and hazardous materials related to existing and former activities that have contaminated soil and groundwater in the Port, or pose hazardous risks related to ongoing operations, and hazards and risk of upset due to terrorism;

6. Hydrology and water quality from disturbance of sediment, operations, and runoff from development;

7. Noise from construction, existing and future operations, and increased traffic;

8. Traffic and transportation, including ground transportation; and

9. Cumulative impacts from past, present, and reasonably foreseeable future projects.

4. Alternatives: Several alternatives are being considered for the proposed action. The Draft EIS/EIR will include a co-equal analysis of the project alternatives considered. Alternatives being considered for the proposed project include several reduced project alternatives; the proposed project with an expanded on-dock rail yard; and a No Project/No Federal Action Alternative that would not implement any of the project elements. For this project, the No Federal Action Alternative is the same as the No Project Alternative and will therefore be referred to and analyzed as the No Project/No Federal Action Alternative. These alternatives will be further formulated and developed during the scoping process. Additional alternatives that may be developed during scoping will also be considered in the Draft EIS/EIR.

5. Scoping Process: The Corps and the LAHD will jointly conduct a public scoping meeting for the proposed Berths 302-306 [APL] Container Terminal Project Draft EIS/EIR to receive public comment and to assess public concerns regarding the appropriate scope and preparation of the Draft EIS/EIR. Participation in the public meeting by Federal, State, and local agencies and other interested organizations and persons is encouraged. This meeting will be conducted in both English and Spanish. Members of the public who wish to communicate and listen entirely in Spanish are encouraged to attend this meeting. The meeting will be held on August 5, 2009 at 6:00 PM (PST) at the Board Room in the Harbor Administration Building at 425 South Palos Verdes Street, San Pedro, CA 90731. Written comment letters will be accepted until August 24, 2009.

The Corps also anticipates consulting with the U.S. Fish and Wildlife Service under the Endangered Species Act, and with the National Marine Fisheries Service under the Magnuson-Stevens Fishery Conservation and Management Act. Additionally, the EIS/EIR will assess the consistency of the proposed action with the Coastal Zone Management Act and potential water quality impacts pursuant to Section 401 of the Clean Water Act.

6. Availability of the Draft EIS: The Draft EIS/EIR is expected to be published and circulated in mid-2010, and a public meeting will be held after its publication.

Dated: June 30, 2009.
David J. Castanon,
Chief, Regulatory Division, Corps of Engineers.

[FR Doc. E9-16231 Filed 7-8-09; 8:45 am]

BILLING CODE 3710-KF-P